DEPARTMENT OF COMMERCE

International Trade Administration

[Application No. 14-1A004]

Export Trade Certificate of Review

ACTION: Notice of Issuance of an Amended Export Trade Certificate of Review to DFA of California, Application no. 14-1A004.

SUMMARY: The Secretary of Commerce, through the Office of Trade and Economic Analysis (“OTEA”) of the International Trade Administration, Department of Commerce, issued an amended Export Trade Certificate of Review to DFA of California on September 17, 2015. The original Certificate was issued on March 2, 2015.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2015). OTEA is issuing this notice pursuant to 15 CFR 325.6(b), which requires the Secretary to publish a summary of the certificate in the Federal Register. Under Section 305(a) of the Act and 15 CFR 325.11(a), any person aggrieved by the Secretary's determination may, within 30 days of the date of this notice, bring an action in any appropriate district court of the United States to set aside the determination on the ground that the determination is erroneous.

Description of the Amendment to the Certificate: Add the following six companies as Members of DFA's Certificate, with respect to the covered products listed below:

• Walnuts: CR Crain and Sons, Inc. (Los Molinos, CA); RPC Packing, Inc. (Porterville, CA); CAPEX (Corning, CA)

• Prunes: Taylor Brothers Farms, Inc (Yuba City, CA); RPC Packing, Inc. (Porterville, CA); Sun-Maid Growers of California (Kingsburg, CA)

• Figs: Fig Garden Packing, Inc. (Fresno, CA)

DFA's Export Trade Certificate of Review complete amended Membership is listed below:

1. Alpine Pacific Nut Company, Hughson, CA

2. Andersen & Sons Shelling, Vina, CA

3. Avanti Nut Company, Inc., Stockton, CA

4. Berberian Nut Company, LLC, Chico, CA

5. Carriere Family Farms, Inc., Glenn, CA

6. California Almond Packers and Exporters (CAPEX), Corning, CA

7. Continente Nut LLC, Oakley, CA

8. C. R. Crain & Sons, Inc., Los Molinos, CA

9. Crain Walnut Shelling, Inc., Los Molinos, CA

10. Crisp California Walnuts, Stratford, CA

11. Diamond Foods, Inc., Stockton, CA

12. Empire Nut Company, Colusa, CA

13. Fig Garden Packing, Inc., Fresno, CA

14. Gold River Orchards, Inc., Escalon, CA

15. Grower Direct Nut Company, Hughson, CA

16. GSF Nut Company, Orosi, CA

17. Guerra Nut Shelling Company, Hollister, CA

18. Hill View Packing Company Inc., Gustine, CA

19. Linden Nut Company, Linden, CA

20. Mariani Nut Company, Winters, CA

21. Mariani Packing Company, Inc., Vacaville, CA

22. Mid Valley Nut Company Inc., Hughson, CA

23. National Raisin Company, Fowler, CA

24. Poindexter Nut Company, Selma, CA

25. Prima Noce Packing, Linden, CA

26. RPC Packing Inc., Porterville, CA

27. Sacramento Packing, Inc., Yuba City, CA

28. Sacramento Valley Walnut Growers, Inc., Yuba City, CA

29. San Joaquin Figs, Inc., Fresno, CA

30. Shoei Foods USA, Inc., Olivehurst, CA

31. Stapleton-Spence Packing, Gridley, CA

32. Sun-Maid Growers of California, Kingsburg, CA

33. Sunsweet Growers Inc., Yuba City, CA

34. Taylor Brothers Farms, Inc., Yuba City, CA

35. T.M. Duche Nut Company, Inc., Orland, CA

36. Wilbur Packing Company, Inc., Live Oak, CA

37. Valley Fig Growers, Fresno, CA

Dated: October 1, 2015.
Joseph E. Flynn,
Director, Office of Trade and Economic Analysis, International Trade Administration.

[FR Doc. 2015-25449 Filed 10-6-15; 8:45 am]

BILLING CODE 3510-DR-P